DEPARTMENT OF TRANSPORTATION

Federal Railroad Administration

[Docket No. FRA-2013-0002-N-2]

Proposed Agency Information Collection Activities; Comment Request

AGENCY: Federal Railroad Administration, DOT.

ACTION: Notice.

SUMMARY: In accordance with the Paperwork Reduction Act of 1995 and its implementing regulations, the Federal Railroad Administration (FRA) hereby announces that it is seeking renewal of the following currently approved information collection activities. Before submitting these information collection requirements for clearance by the Office of Management and Budget (OMB), FRA is soliciting public comment on specific aspects of the activities identified below.

DATES: Comments must be received no later than March 25, 2013.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-__.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 25, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Pub. L. No. 104-13, § 2, 109 Stat. 163 (1995) (codified as revised at 44 U.S.C. 3501-3520), and its implementing regulations, 5 CFR Part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below are brief summaries of the two currently approved information collection activities that FRA will submit for clearance by OMB as required under the PRA:

Title: Track Safety Standards.

OMB Control Number: 2130-0010.

Abstract: Qualified persons inspect track and take action to allow safe passage of trains and ensure compliance with prescribed Track Safety Standards. In August 2009, FRA amended the Track Safety Standards to promote the safety of railroad operations over continuous welded rail (CWR). In particular, FRA promulgated specific requirements for the qualification of persons designated to inspect CWR track, or supervise the installation, adjustment, or maintenance of CWR track. FRA also clarified the procedure associated with the submission of CWR plans to FRA by track owners. The final specified that these plans should add focus on inspecting CWR for pull-apart prone conditions, and on CWR joint installation and maintenance procedures. The final rule also made other changes to the requirements governing CWR.

Form Number(s): FRA F 6180.124.

Affected Public: Businesses.

Respondent Universe: 728 railroads.

Frequency of Submission: On occasion.

Affected Public: Businesses.

Reporting Burden:

CFR Section | Respondent universe | Total annual responses | Average time per response | Total annual burden hours
213.14—Excepted Track—Identification | 200 railroads | 20 orders | 15 minutes | 5
—Notification to FRA—Removal of Track Segment From Excepted Statutes | 200 railroads | 15 notices | 10 minutes | 3
213.5—Responsibility of Track Owners—Assignment to Another Person—Notice to FRA | 728 railroads | 19 notices | 8 hours | 80
213.7—Designation of Qualified Persons to Supervise Certain Renewals and Inspect Track | 728 railroads | 1,500 names | 10 minutes | 250
—Individuals Designated under paragraphs (a) or (b) of this section who inspect CWR and have completed CWR Training Course | 728 railroads | 80,000 trained employees | 90 minutes | 120,000
—Employees authorized by Track Owner to prescribe CWR Remedial Actions | 31 railroads | 80,000 auth. + 80,000 exams | 70 minutes | 93,333
—Designations (Partially Qualified under Paragraph c) | 31 railroads | 250 names | 10 minutes | 42
213.17—Waiver Petitions | 728 railroads | 6 petitions | 24 hours | 144
213.57—Curves; Elevations & Speed Limits—Requests for higher curving speeds | 728 railroads | 2 requests | 40 hours | 80
—Implementation Notification to FRA | 728 railroads | 2 notifications | 45 minutes | 2
—Requests For FRA Approval—Test Plans | 1 railroad | 2 test plans | 16 hours | 32
213.110—Gage Restraint Meas. Systems—Implementing GRMS—Notice to FRA and Technical Report | 728 railroads | 5 notices + 1 tech. report | 45 minutes + 4 hours | 8
—GRMS Output Reports | 728 railroads | 50 reports | 5 minutes | 4
—GRMS Exception Reports | 728 railroads | 50 reports | 5 minutes | 4
—Procedures for Maintaining GRMS Data | 728 railroads | 4 procedures | 2 hours | 8
—GRMS Training to Qualified Employees | 728 railroads | 2 tr. programs + 5 sessions | 16 hours | 112
—GRMS Inspections—Two Most Recent Records | 728 railroads | 50 records | 2 hours | 100
213.118—Continuous Weld Rail (CWR)—Track Owner Plans to FRA | 728 railroads | 728 revised plans | 4 hours | 2,912
—Notice to FRA & to Affected Employees of Plan's Effective Date | 728 railroads | 728 notices + 80,000 notices | 15 minutes + 2 minutes | 2,849
—FRA Required Revisions to CWR Plans | 728 railroads | 20 revisions | 2 hours | 40
—Further FRA Amendments to CWR Plans—Annual Retraining of CWR Employees | 728 railroads | 20 plans | 1 hour | 20
213.119—Continuous Weld Rail (CWR)—Fracture Reports | 239 railroads | 12,000 reports | 10 minutes | 2,000
—Petition to FRA to Conduct Technical Conference on Fracture Report Data | 1 RR Association | 1 petition | 15 minutes | .25
—Comprehensive CWR Training Program for Employees Needing Annual Retraining | 239 railroads | 240 amended programs | 60 minutes | 240
—Annual Retraining of CWR Employees | 31 railroads | 80,000 workers | 30 minutes | 40,000
—Records of CWR Installations and CWR Maintenance | 239 railroads | 2,000 records | 10 minutes | 333
—Records of Rail Joint Inspections | 239 railroads | 360,000 rcds | 2 minutes | 12,000
—Records of CWR Periodic Inspections | 239 railroads | 480,000 rcds | 1 minute | 8,000
—CWR Procedures Manual | 728 railroads | 239 Manuals | 10 minutes | 40
213.233—Track Inspections by Person/Vehicle—Records | 728 railroads | 12,500 notations | 1 minute | 208
213.241—Track and Rail Inspection Records | 728 railroads | 1,542,089 records | Varies with Inspection Type | 1,723,941
213.303—Responsibility for Compliance—High Speed Track: Notice to FRA of Assignment of Responsibility | 2 railroads | 1 notice | 8 hours | 8
213.305—Designation of Fully Qualified Individuals | 2 railroads | 150 designations | 10 minutes | 25
—Designation of Partially Qualified Individuals | 2 railroads | 15 designations | 10 minutes | 3
213.317—Waiver Petitions | 2 railroads | 1 petition | 80 hours | 80
213.329—Curves, Elevation, and Higher Speed Limits—Notification to FRA of Passenger/Commuter Equipment Operating at Higher Curving Speeds | 2 railroads | 3 notifications | 40 hours | 120
—Notification to FRA of Service Over More than One Track by Passenger or Commuter Service Operator | 2 railroads | 3 notifications | 45 minutes | 2
213.333—Automated Vehicle Inspection Systems: Track Geometry Measurement System Output Reports | 3 railroads | 18 reports | 20 hours | 360
—Exception Printouts | 2 railroads | 13 printouts | 20 hours | 260
213.341—Initial Inspection—New Rail and Welds: Mill Inspection—Report | 2 railroads | 2 reports | 16 hours | 32
—Welding Plant Inspection—Report | 2 railroads | 2 reports | 16 hours | 32
—Inspection of Field Welds—Records | 2 railroads | 125 records | 20 minutes | 42
213.343—Continuous Weld Rail—History—Records | 2 railroads | 150 records | 10 minutes | 253
213.345—Vehicle Qualification Testing—Results/Records | 1 railroad | 2 reports | 560 hours | 1,120
213.347—Automotive or RR Crossing at Grade—Protection Plans | 1 railroad | 2 plans | 8 hours | 16
213.369—Inspection Records | 2 railroads | 500 records | 1 minute | 8
—Inspection Records of Defects and Remedial Actions | 2 railroads | 50 records | 5 minutes | 4

Total Responses: 2,813,581.

Total Estimated Total Annual Burden: 1,957,927 hours.

Type of Request: Extension of a Currently Approved Collection.

Title: Passenger Train Emergency Preparedness.

OMB Control Number: 2130-0545.

Abstract: The collection of information is due to the passenger train emergency regulations set forth in 49 CFR parts 223 and 239 which require railroads to meet minimum Federal standards for the preparation, adoption, and implementation of emergency preparedness plans connected with the operation of passenger trains, including freight railroads hosting operations of rail passenger service. The regulations require luminescent or lighted emergency markings so that passengers and emergency responders can readily determine where the closest and most accessible exit routes are located and how the emergency exit mechanisms are operated. Windows and doors intended for emergency access by responders for extrication of passengers must be marked with retro-reflective material so that emergency responders, particularly in conditions of poor visibility, can easily distinguish them from the less accessible doors and windows. Records of the inspection, maintenance, and repair of emergency windows and door exits, as well as records of operational efficiency tests, will be used to ensure compliance with the regulations.

Form Number(s): N/A.

Affected Public: Businesses.

Respondent Universe: 25 railroads.

Frequency of Submission: On occasion.

Reporting Burden:

CFR Section | Respondent universe | Total annual responses | Average time per response | Total annual burden hours
239.13—Waiver Petitions | 25 railroads | 1 petition | 20 hours | 20
239.107—Marking of Emergency Window and Door Exits on New Passenger Cars | 25 railroads | 6,525 labels | 10 minutes | 706
—Replacement Markings/Decals on Emergency Window and Door Exits | 25 railroads | 6,320 decals/1,300 decals | 5 minutes/10 minutes | 744
—Records of Inspections | 25 railroads | 1,800 window tests/records + 1,200 door test records | 20 minutes | 1,000
239.101/201/203—Filing of Emergency Preparedness Plan (EPP) | 3 railroads | 1 EPP | 158 hours | 158
—Amendments to Emergency Preparedness Plan | 15 railroads | 5 amendments | 8 hours | 40
239.101(a)(1)(ii)—Maintenance of Current Emergency Telephone Numbers | 2 railroads | 2 current lists | 1 hour | 2
239.101(a)(3)—Joint Operations by Railroads —Joint Emergency Preparedness Plan (EPP) | 5 railroad pairs | 1 joint plan | 16 hours | 16
239.101(a)(5)—Liaison with Emergency Responders—Updated Plans Containing Emergency Responder Liaison Information | 25 railroads | 25 updated plans | 40 hours | 1,000
239.101(a)(7)(ii)—Passenger Safety Information—Plans and Posting of Safety Awareness Messages | 3 new railroads/3 commuter railroads | 1,300 cards/3 plans/3 safety messages/3 plans/3 safety messages | 5 minutes/16 hours/48 hours/8 hours/24 hours | 396
239.105—Debriefing and Critique After Each Passenger Train Emergency Situation or Full Scale Simulation | 25 railroads | 44 debriefing/critique sessions | 27 hours | 1,188
239.301—Operational (Efficiency) Tests of On-board and Control Center Employees and Records of Tests | 25 railroads | 25,000 tests/records | 15 minutes | 6,250

Total Responses: 43,536.

Total Estimated Annual Burden: 11,520 hours.

Type of Request: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC on January 15, 2013.
Rebecca Pennington,
Chief Financial Officer, Federal Railroad Administration.

[FR Doc. 2013-01198 Filed 1-22-13; 8:45 am]

BILLING CODE 4910-06-P